DEPARTMENT OF ENERGY

Federal Energy Regulatory Commission

[Docket No. CP23-129-000]

Corpus Christi Liquefaction, LLC, CCL Midscale 8-9, LLC; Notice of Availability of the Environmental Assessment for the Proposed Corpus Christi Liquefaction Midscale Trains 8 & 9 Project

The staff of the Federal Energy Regulatory Commission (FERC or Commission) has prepared an environmental assessment (EA) for the Corpus Christi Liquefaction Midscale Trains 8 & 9 Project, proposed by Corpus Christi Liquefaction, LLC and CCL Midscale 8-9, LLC (collectively referred to as, CCL) in the above-referenced docket. CCL requests authorization to construct and operate two midscale liquification trains; on-site refrigerant storage, end flash, and boil-off gas facilities; and proposes an increase in the authorized loading rate of LNG ship carriers. The proposed action is an expansion of the previously authorized Liquefaction Project and Stage 3 Project facilities (authorized under Docket Nos. CP12-507-000 and CP18-512-000, respectively, and collectively referred to as CCL Terminal) in San Patricio and Nueces counties, Texas.

The EA assesses the potential environmental effects of the Project in accordance with the requirements of the National Environmental Policy Act (NEPA). The FERC staff concludes that approval of the proposed project, with appropriate mitigating measures, would not constitute a major federal action significantly affecting the quality of the human environment.

The U.S. Coast Guard, U.S. Department of Energy, and U.S. Department of Transportation's Pipeline, and Hazardous Materials Safety Administration participated as cooperating agencies in the preparation of the EA. Cooperating agencies have jurisdiction by law or special expertise with respect to resources potentially affected by the proposal and participate in the NEPA analysis.

CCL's proposed Project includes the construction and operation of two midscale liquification trains, on-site refrigerant storage, an end flash gas unit, and a boil-off gas compressor. Additionally, CCL proposes to increase the authorized loading rate at the existing CCL Terminal marine berth from 12,000 cubic meters per hour (m3/hr) (previously authorized in the Liquefaction Project) to 14,000 m3/hr from any single jetty using a combination of two or three existing LNG storage tanks. Further, CCL proposes to provide for simultaneous loading capabilities at a combined rate of 22,500 m3/hr (not to exceed 12,000 m3/hr on a single line) using the three existing LNG storage tanks. Modifications to allow for increased single ship loading and simultaneous ship loading include the addition of a fifth pump in each of the three existing LNG storage tanks, addition of new interlocks, and modification of existing interlocks.

The Commission mailed a copy of the Notice of Availability to federal, state, and local government representatives and agencies; elected officials; environmental and public interest groups; Native American tribes; potentially affected landowners and other interested individuals and groups; and newspapers and libraries in the project area. The EA is only available in electronic format. It may be viewed and downloaded from the FERC's website (www.ferc.gov), on the natural gas environmental documents page (https://www.ferc.gov/industries-data/natural-gas/environment/environmental-documents). In addition, the EA may be accessed by using the eLibrary link on the FERC's website. Click on the eLibrary link (https://elibrary.ferc.gov/eLibrary/search), select “General Search” and enter the docket number in the “Docket Number” field, excluding the last three digits (i.e. CP23-129). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of all issues in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC on or before 5:00 p.m. Eastern Time on July 22, 2024.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the Commission. Be sure to reference the project docket number (CP23-129-000) on your letter. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/how-intervene.

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: June 21, 2024.
Debbie-Anne A. Reese,
Acting Secretary.

[FR Doc. 2024-14132 Filed 6-26-24; 8:45 am]

BILLING CODE 6717-01-P